DEPARTMENT OF COMMERCE

National Oceanic and Atmospheric Administration

RIN 0648-XC239

Marine Mammals; File No. 17355

AGENCY: National Marine Fisheries Service (NMFS), National Oceanic and Atmospheric Administration (NOAA), Commerce.

ACTION: Notice; issuance of permit.

SUMMARY: Notice is hereby given that a permit has been issued to National Marine Fisheries Service's Northeast Fisheries Science Center (NEFSC), 166 Water Street, Woods Hole, Massachusetts 02543 [Responsible Party: William Karp; Principal Investigator: Peter Corkeron] to conduct research on marine mammals and sea turtles.

ADDRESSES: The permit and related documents are available for review upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

FOR FURTHER INFORMATION CONTACT: Kristy Beard or Carrie Hubard, (301) 427-8401.

SUPPLEMENTARY INFORMATION: On September 20, 2012, notice was published in the Federal Register (77 FR 58357) that a request for a permit to conduct research on marine mammals and sea turtles had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

A five-year permit was issued to conduct scientific research on 38 species of cetaceans, four species of pinnipeds, and five species of sea turtles in the U.S. EEZ from Florida to Maine and Canadian waters in the Bay of Fundy and Scotian Shelf. Thirteen of the 47 species to be targeted for research are listed as threatened or endangered: blue whale (Balaenoptera musculus), fin whale (B. physalus), humpback whale (Megaptera novaeangliae), North Atlantic right whale (Eubalaena glacialis), sei whale (B. borealis), sperm whale (Physeter macrocephalus), bowhead whale (Balaena mysticetus), Western North Pacific stock of gray whale (Eschrichtius robustus), green sea turtle (Chelonia mydas), hawksbill sea turtle (Eretmochelys imbricata), loggerhead sea turtle (Caretta caretta), Kemp's ridley sea turtle (Lepidochelys kempii), and leatherback sea turtle (Dermochelys coriacea). Types of take include harassment by survey approach during aerial and vessel-based surveys, passive acoustic recording, behavioral observations, photo-identification, suction-cup tagging, and biopsy sampling. Research platforms include large ships, small vessels, and aircrafts. Import and export of marine mammal parts from the U.S. and other countries is requested for research purposes.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: June 26, 2013.
P. Michael Payne,
Chief, Permits and Conservation Division, Office of Protected Resources, National Marine Fisheries Service.

[FR Doc. 2013-15703 Filed 6-28-13; 8:45 am]

BILLING CODE 3510-22-P